DEPARTMENT OF THE INTERIOR

National Park Service

Notice of Inventory Completion for Native American Human Remains and Associated Funerary Objects in the Control of Gila Cliff Dwellings National Monument, National Park Service, Silver City, NM; Correction

AGENCY: National Park Service, Interior.

ACTION: Notice; correction.

Notice is here given in accordance with the Native American Graves Protection and Repatriation Act (NAGPRA), 25 U.S.C. 3003, of the completion of an inventory of human remains and associated funerary objects in the control of the U.S. Department of the Interior, National Park Service, Gila Cliff Dwellings National Monument, Silver City, NM. The human remains and cultural items were removed from Catron County, NM.

This notice is published as part of the National Park Service's administrative responsibilities under NAGPRA, 25 U.S.C. 3003 (d)(3). The determinations in this notice are the sole responsibility of the superintendent, Gila Cliff Dwellings National Monument.

This notice corrects the minimum number of individuals reported for the Main Group Site at Gila Cliff Dwellings National Monument.

In the Federal Register of September 26, 1996 (61 FR 50505-50506, September 26, 1996) insert the following paragraph after paragraph number 3:

In the late 1980s, human remains representing a minimum of one individual were illegally removed from the trail near the Main Group Site in Catron County, NM. The remains were mailed to the U.S. Department of Agriculture, U.S. Forest Service, Gila National Forest with a note stating that the remains were found “along the Gila Cliff Dwellings NM Trail, mid-way up a flight of steps and at the base of a large rock.” Based upon the details of the note, soil deposition at the monument, and the expert opinion of the Intermountain Regional Supervisory Archaeologist, the remains have been associated with the Main Group Site. No known individuals were identified. No associated funerary objects are present.

In the Federal Register of September 26, 1996 (61 FR 50505-50506, September 26, 1996) paragraph number 6 is corrected by substituting the following paragraph:

Based on the above mentioned information, officials of the National Park Service have determined that, pursuant to 43 CFR 10.2 (d)(1), the human remains listed above represent the physical remains of 47 individuals of Native American ancestry. Officials of the National Park Service have also determined that, pursuant to 25 U.S.C 3001 (3)(A), the 15 objects listed above are reasonably believed to have been placed with or near individual human remains at the time of death or later as part of the death rite or ceremony. Lastly, officials of the National Park Service have determined that, pursuant to 25 U.S.C. 3001 (2), there is a relationship of shared group identity which can be reasonably traced between these Native American human remains and associated funerary objects and the Hopi Tribe of Arizona; Pueblo of Acoma, New Mexico; Pueblo of Laguna, New Mexico; and Zuni Tribe of the Zuni Reservation, New Mexico. Further, officials of the National Park Service recognize that there is a relationship of shared group identity which can be reasonably traced between these Native American human remains and associated funerary objects and the Piro-Manso-Tiwa, a non-Federally recognized Indian group.

Representatives of any other Indian tribe that believes itself to be culturally affiliated with the human remains and associated funerary objects should contact Steve Riley, superintendent, Gila Cliff Dwellings National Monument, HC 68 Box 100, Silver City, NM 88061, telephone (575) 536-9461, before June 26, 2009. Repatriation of the human remains and associated funerary objects to the Hopi Tribe of Arizona; Pueblo of Acoma, New Mexico; Pueblo of Laguna, New Mexico; and Zuni Tribe of the Zuni Reservation, New Mexico may proceed after that date if no additional claimants come forward.

Gila Cliff Dwellings National Monument is responsible for notifying the Apache Tribe of Oklahoma; Fort McDowell Yavapai Nation, Arizona; Fort Sill Apache Tribe of Oklahoma; Hopi Tribe of Arizona; Jicarilla Apache Nation, New Mexico; Kaibab Band of Paiute Indians of the Kaibab Indian Reservation, Arizona; Mescalero Apache Tribe of the Mescalero Reservation, New Mexico; Navajo Nation, Arizona, New Mexico & Utah; Pueblo of Acoma, New Mexico; Pueblo of Cochiti, New Mexico; Pueblo of Isleta, New Mexico; Pueblo of Jemez, New Mexico; Pueblo of Laguna, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; White Mountain Apache Tribe of the Fort Apache Reservation, Arizona; Yavapai-Apache Nation of the Camp Verde Indian Reservation, Arizona; and Zuni Tribe of the Zuni Reservation, New Mexico that this notice has been published.

Dated: May 13, 2009
Sherry Hutt,
Manager, National NAGPRA Program.

[FR Doc. E9-12270 Filed 5-26-09; 8:45 am]

BILLING CODE 4312-50-S